DEPARTMENT OF COMMERCE

Bureau of Economic Analysis

Proposed Data Sharing Activity

AGENCY: Bureau of Economic Analysis, Department of Commerce.

ACTION: Notice and request for public comment.

SUMMARY: The Bureau of Economic Analysis (BEA) proposes to provide to the Bureau of the Census (Census Bureau) data collected from several surveys that it conducts on U.S. direct investment abroad, foreign direct investment in the United States, and U.S. international services transactions for statistical purposes exclusively. In accordance with the requirement of Section 524(d) of the Confidential Information Protection and Statistical Efficiency Act of 2002 (CIPSEA), we are providing the opportunity for public comment on this data-sharing action.

The data provided to the Census Bureau will be used for two purposes:

(1) Data from BEA surveys of U.S direct investment abroad and foreign direct investment in the United States will be linked with data from the Survey of Industrial Research and Development conducted by the Census Bureau under a joint partnership agreement with the National Science Foundation (NSF). The linked data will be used to produce aggregate tabulations for the NSF, which will provide an integrated data set on R&D performance and funding with domestic and foreign ownership detail. BEA will use the linked data to augment its existing R&D-related data, identify data quality issues arising from reporting differences in BEA and Census Bureau surveys, and improve its survey sample frames. The Census Bureau will identify unmatched companies on BEA files that conduct R&D activities and add them to the R&D survey to improve the survey's sample. The NSF will be provided non-confidential aggregate data (public use) and reports that have cleared BEA and Census Bureau disclosure review. Disclosure review is a process conducted to verify that the data to be released do not reveal any confidential information.

(2) BEA will also provide data to the Census Bureau in order to link records from its surveys of U.S. international services transactions, U.S. direct investment abroad, and foreign direct investment in the United States with information from the Census Bureau's Business Register and with data from the 2002 Economic Census. This linked information will be used by the BEA to evaluate the feasibility of developing state-level estimates of service exports.

DATES: Written comments must be submitted on or before March 26, 2007.

ADDRESSES: Please direct all written comments on this proposed program to the Director, Bureau of Economic Analysis (BE-1), Washington, DC 20230.

FOR FURTHER INFORMATION CONTACT: Requests for additional information on this proposed program should be directed to Ned G. Howenstine, Chief, Research Branch, International Investment Division, Bureau of Economic Analysis (BE-50), Washington, DC 20230, by phone (202) 606-9845 or by fax (202) 606-5318.

SUPPLEMENTARY INFORMATION:

Background

CIPSEA (Pub. L. 107-347, Title V) and the International Investment and Trade in Services Survey Act (Pub. L. 94-472, 22 United States Code (U.S.C.) 3101-3108) allow BEA and the Census Bureau to share certain business data for exclusively statistical purposes. Section 524(d) of the CIPSEA requires a Federal Register notice announcing the intent to share data (allowing 60 days for public comment). Section 524(d) also requires us to provide information about the terms of the agreement for data sharing. For purposes of this notice, BEA has decided to group these terms by three categories. The categories are:

• Shared data.

• Statistical purposes for the shared data.

• Data access and confidentiality.

Shared Data

BEA proposes to provide the Census Bureau with data from its surveys of U.S. direct investment abroad, foreign direct investment in the United States, and U.S. international services transactions. The agreement also calls for the Census Bureau to share data collected from the Survey of Industrial Research and Development, the 2002 Economic Census, and its Business Register with BEA. The Census Bureau will issue a separate notice addressing this issue. The shared BEA and Census Bureau data will be used for statistical purposes only.

Statistical Purposes for the Shared Data

Data collected in BEA's surveys of direct investment are used to develop estimates of the financing and operations of U.S. parent companies, their foreign affiliates, and U.S. affiliates of foreign companies, and estimates of transactions and positions between parents and affiliates. Data collected in BEA's surveys of U.S. international services transactions are used to develop estimates of services transactions between U.S. persons (in a broad legal sense, including companies) and foreign persons. These estimates are published in the Survey of Current Business, BEA's monthly journal; in other BEA publications; and on BEA's Web site at http://www.bea.gov/. All data are collected under sections 3101-3108, of Title 22, U.S.C.

The data sets created by linking these data with the data from the above-designated Census Bureau surveys and Business Register will be used for several exclusively statistical purposes by both agencies, such as for evaluating the feasibility of developing state-level estimates of U.S. services exports, and producing aggregate tabulations of data for the NSF that augment and improve information on international aspects of R&D performance, funding, and related economic activity.

Data Access and Confidentiality

Title 22, U.S.C. 3104 protects the confidentiality of the data to be provided by BEA to the Census Bureau. The data may be seen only by persons sworn to uphold the confidentiality of the information. Access to the shared data will be restricted to specifically authorized personnel and will be provided for statistical purposes only. Any results of this research are subject to BEA disclosure protection. All Census Bureau employees with access to these data will become BEA Special Sworn Employees—meaning that they, under penalty of law, must uphold the data's confidentiality. Selected NSF employees will provide BEA with expertise on various aspects of R&D performance and funding of companies that provide data to BEA. These NSF consultants assisting with the work at the BEA also will become BEA Special Sworn Employees. No confidential data will be provided to the NSF.

J. Steven Landefeld,
Director, Bureau of Economic Analysis.

[FR Doc. E7-938 Filed 1-22-07; 8:45 am]

BILLING CODE 3510-07-P